DEPARTMENT OF DEFENSE

Office of the Secretary

Meeting of the Defense Policy Board Advisory Committee

AGENCY: Department of Defense, Defense Policy Board Advisory Committee.

ACTION: Notice of closed meeting.

SUMMARY: The Defense Policy Board Advisory Committee will meet in closed session on December 14, 2006 from 0800 hrs until 1830 and December 15, 2006 from 0800 hrs until 1600 at the Pentagon. The purpose of the meeting is to provide the Secretary of Defense, Deputy Secretary of Defense and Under Secretary of Defense for Policy with independent, informed advice on major matters of defense policy. The Board will hold classified discussions on national security matters.

In accordance with Section 10(d) of the Federal Advisory Committee Act, Public Law No. 92-463, as amended [5 U.S.C. App II (1982)], it has been determined that this meeting concerns matters listed in 5 U.S.C. 552B(c)(1)(1982), and that accordingly this meeting will be closed to the public.

Dated: November 13, 2006.
C.R. Choate,
Alternate OSD Federal Register Liaison Officer, Department of Defense.

[FR Doc. 06-9271 Filed 11-17-06; 8:45 am]

BILLING CODE 5001-06-M